DEPARTMENT OF COMMERCE

National Oceanic and Atmospheric Administration

Proposed Information Collection; Comment Request; Application for Commercial Fisheries Authorization Under Section 118 of the Marine Mammal Protection Act

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 15, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Lisa White, (301) 427-8494 or Lisa.White@noaa.gov.

SUPPLEMENTARY INFORMATION:

I. Abstract

The Marine Mammal Protection Act requires any commercial fisherman operating in Category I and II fisheries to register for a certificate of authorization that will allow the fisherman to take marine mammals incidental to commercial fishing operations. Category I and II fisheries are those identified by NOAA as having either frequent or occasional takings of marine mammals. All states have integrated the National Marine Fisheries Service (NMFS) registration process into the existing state fishery registration process and vessel owners do not need to file a separate federal registration. If applicable, vessel owners will be notified of this simplified registration process when they apply for their state or Federal permit or license.

II. Method of Collection

Fishermen have their information imported directly into the Marine Mammal Authorization Program (MMAP) from their state. If they do not have a state or Federal fishery permit or license, they can request an MMAP registration form from their regional NMFS office and mail in the registration form.

III. Data

OMB Control Number: 0648-0293.

Form Number(s): None.

Type of Review: Regular submission.

Affected Public: Business or other for-profit organizations; Individuals or households.

Estimated Number of Respondents: 600.

Estimated Time per Response: Initial registration 15 minutes.

Estimated Total Annual Burden Hours: 150.

Estimated Total Annual Cost to Public: $15,300 in recordkeeping/reporting costs and application fees.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 10, 2015.
Sarah Brabson,
NOAA PRA Clearance Officer.

[FR Doc. 2015-05876 Filed 3-13-15; 8:45 am]

BILLING CODE 3510-22-P